DEPARTMENT OF TRANSPORTATION

Federal Aviation Administration

14 CFR Part 39

[Docket No. FAA-2022-1656; Project Identifier AD-2022-01081-A]

RIN 2120-AA64

Airworthiness Directives; Allied Ag Cat Productions, Inc. Airplanes

AGENCY: Federal Aviation Administration (FAA), DOT.

ACTION: Notice of proposed rulemaking (NPRM).

SUMMARY: The FAA proposes to adopt a new airworthiness directive (AD) for Allied Ag Cat Productions, Inc. (Allied Ag Cat) Model G-164A and G-164B airplanes with certain supplemental type certificates (STCs) installed. This proposed AD was prompted by an accident involving an Allied Ag Cat Model G-164B airplane where the propeller pitch control (PPC) linkage detached from the PPC of the engine and resulted in an accident that significantly damaged the airplane and injured the pilot. This proposed AD would require installing a secondary retention feature (bolt, washer, and safety wire) on the PPC lever and the PPC assembly. The FAA is proposing this AD to address the unsafe condition on these products.

DATES: The FAA must receive comments on this proposed AD by February 13, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1656; or in person at Docket Operations between 9 a.m. and 5 p.m., Monday through Friday, except Federal holidays. The AD docket contains this NPRM, any comments received, and other information. The street address for Docket Operations is listed above.

Material Incorporated by Reference:

• For service information identified in this NPRM, contact Honeywell International, Inc., 111 South 34th Street, Phoenix, AZ 85034; phone: (800) 601-3099; website: aerospace.honeywell.com.

• You may view this service information at the FAA, Airworthiness Products Section, Operational Safety Branch, 901 Locust, Kansas City, MO 64106. For information on the availability of this material at the FAA, call (817) 222-5110.

FOR FURTHER INFORMATION CONTACT: Justin Carter, Aviation Safety Engineer, Fort Worth ACO Branch, FAA, 10101 Hillwood Parkway, Fort Worth, TX 76177; phone: (817) 222-5146; email: justin.carter@faa.gov.

SUPPLEMENTARY INFORMATION:

Comments Invited

The FAA invites you to send any written relevant data, views, or arguments about this proposal. Send your comments to an address listed under ADDRESSES. Include “Docket No. FAA-2022-1656; Project Identifier AD-2022-01081-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Justin Carter, Aviation Safety Engineer, Fort Worth ACO Branch, FAA, 10101 Hillwood Parkway, Fort Worth, TX 76177. Any commentary that the FAA receives which is not specifically designated as CBI will be placed in the public docket for this rulemaking.

Background

The FAA received a report of an accident involving an Allied Ag Cat Model G-164 airplane where the PPC linkage detached from the PPC of the engine. The pilot sustained serious injuries, and the airplane was substantially damaged. The root cause was determined to be a lack of a secondary retention feature for the PPC of the engine.

This condition, if not addressed, could result in reduced control of the airplane.

Aircraft configurations for airplanes with the potential for this condition to exist are as follows:

• Model G-164A airplanes with STC No. SA7769SW, SA7966SW, or SA8720SW installed; and

• Model G-164B airplanes with STC No. SA7546SW, SA7966SW, SA7987SW, or SA8720SW installed.

FAA's Determination

The FAA is issuing this NPRM after determining that the unsafe condition described previously is likely to exist or develop on other products of these same type designs.

Related Service Information Under 1 CFR Part 51

The FAA reviewed Honeywell Service Bulletin TPE331-72-2190, Revision 0, dated December 21, 2011. This service information identifies the affected PPC assemblies and applicable engines, and specifies procedures for reworking the affected PPC assemblies to incorporate a threaded hole in the splined end of the shouldered shaft. This service information is reasonably available because the interested parties have access to it through their normal course of business or by the means identified in ADDRESSES.

Other Related Service Information

The FAA reviewed the Honeywell TPE331 Propeller Pitch Control Lever letter, dated August 26, 2011, addressed to the original equipment manufacturer (OEM). This letter informs the OEM of a report Honeywell received about the TPE331 PPC lever shaft becoming detached from the PPC assembly cam shaft and communicates the future development of a Honeywell service bulletin (released as Honeywell Service Bulletin TPE331-72-2190, Revision 0, dated December 21, 2011).

Proposed AD Requirements in This NPRM

This proposed AD would require installing a secondary retention feature (bolt, washer, and safety wire) on the PPC lever and the PPC assembly.

Costs of Compliance

The FAA estimates that this AD, if adopted as proposed, would affect 200 airplanes of U.S. registry.

The FAA estimates the following costs to comply with this proposed AD:

Estimated Costs
Action | Labor cost | Parts cost | Cost per product | Cost on U.S. operators
Installation of secondary retention feature | 4 work-hours × $85 per hour = $340 | $1,000 | $1,340 | $268,000

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Allied Ag Cat Productions, Inc.: Docket No. FAA-2022-1656; Project Identifier AD-2022-01081-A.

(a) Comments Due Date

The FAA must receive comments on this airworthiness directive (AD) by February 13, 2023.

(b) Affected ADs

None.

(c) Applicability

This AD applies to the following Allied Ag Cat Productions, Inc. airplanes, all serial numbers, certificated in any category.

(1) Model G-164A airplanes with Supplemental Type Certificate (STC) No. SA7769SW, SA7966SW, or SA8720SW installed.

(2) Model G-164B airplanes with STC No. SA7546SW, SA7966SW, SA7987SW, or SA8720SW installed.

(d) Subject

Joint Aircraft System Component (JASC) Code 6120, Propeller Controlling System.

(e) Unsafe Condition

This AD was prompted by a report of an accident caused by the detachment of the propeller pitch control (PPC) linkage from the PPC of the engine. The FAA is issuing this AD to prevent the PPC linkage from detaching from the PPC of the engine. The unsafe condition, if not addressed, could result in reduced control of the airplane.

(f) Compliance

Comply with this AD within the compliance times specified, unless already done.

(g) Install Secondary Retention Feature

Within 12 months after the effective date of this AD, install a secondary retention feature (bolt, washer, and safety wire) on the PPC lever and the PPC assembly. If rework of the PPC assembly (specifically, the shouldered shaft within the cam assembly within the PPC assembly) is required to do this installation, do the rework in accordance with the procedures in Section 3.C(3)(d)2 of Honeywell Service Bulletin TPE331-72-2190, Revision 0, dated December 21, 2011. After the rework is completed, re-identify the part number of the PPC assembly, cam assembly, and shouldered shaft, in accordance with Sections 3.C(4), 3.C(5), and 3.C(7), as applicable, of Honeywell Service Bulletin TPE331-72-2190, Revision 0, dated December 21, 2011. Part re-identification is required only if rework is done.

Note 1 to paragraph (g): Honeywell TPE331 Propeller Pitch Control Lever letter, dated August 26, 2011, to the original equipment manufacturer, contains information related to this subject.

(h) Alternative Methods of Compliance (AMOCs)

(1) The Manager, Fort Worth ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD.

(2) Before using any approved AMOC, notify your appropriate principal inspector, or lacking a principal inspector, the manager of the local flight standards district office/certificate holding district office.

(i) Related Information

(1) For more information about this AD, contact Justin Carter, Aviation Safety Engineer, Fort Worth ACO Branch, FAA, 10101 Hillwood Parkway, Fort Worth, TX 76177; phone: (817) 222-5146; email: justin.carter@faa.gov.

(2) Service information identified in this AD that is not incorporated by reference is available at the addresses specified in paragraphs (j)(3) and (4) of this AD.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Honeywell Service Bulletin TPE331-72-2190, Revision 0, dated December 21, 2011.

(ii) [Reserved]

(3) For service information identified in this AD, contact Honeywell International, Inc., 111 South 34th Street, Phoenix, AZ 85034; phone: (800) 601-3099; website: aerospace.honeywell.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on December 21, 2022.
Christina Underwood,
Acting Director, Compliance & Airworthiness Division, Aircraft Certification Service.

[FR Doc. 2022-28220 Filed 12-27-22; 8:45 am]

BILLING CODE 4910-13-P